DEPARTMENT OF LABOR

Employment and Training Administration

[TA-W-82,751]

Hewlett Packard Company; Enterprise Storage Servers and Networking (Tape) Group; Formerly D/B/A Enterprise Group, HP Storage, Tape Group; Fort Collins, Colorado; Notice of Investigation

Pursuant to Section 221 of the Trade Act of 1974, as amended, an investigation was initiated on May 20, 2013 in response to a petition filed on behalf of workers of Hewlett Packard Company, Enterprise Storage Servers and Networking (Tape) Group (formerly d/b/a Enterprise Group, HP Storage, Tape Group), Fort Collins, Colorado. On June 7, 2013, the Department issued a Notice of Termination of Investigation because the petitioning workers are part of an on-going investigation (TA-W-82,573). On June 20, 2013, the Department issued a Notice of Termination of Investigation for TA-W-82,573. Because the basis for the termination of the investigation of TA-W-82,751 no longer exists, the Department will re-open the investigation of TA-W-82,751.

Signed in Washington, DC this 9th day of July, 2013.
Del Min Amy Chen,
Certifying Officer, Office of Trade Adjustment Assistance.

[FR Doc. 2013-19190 Filed 8-7-13; 8:45 am]

BILLING CODE 4510-FN-P